ENVIRONMENTAL PROTECTION AGENCY

[FRL-8186-8]

Science Advisory Board Staff Office; Invitation to a Public Session on Web Site Development

AGENCY: Environmental Protection Agency (EPA).

ACTION: Notice.

SUMMARY: The EPA Science Advisory Board (SAB) Staff Office is inviting the public to register and attend a public session to provide feedback on the SAB Web site development.

DATES: A public meeting of the EPA SAB will be held July 26, 2006 from 10 a.m. to approximately 12 p.m. Eastern Time.

ADDRESSES: The meeting will take place at the SAB Conference Center, 1025 F Street, NW., Suite 3700, Washington, DC 20004.

FOR FURTHER INFORMATION CONTACT: Members of the public who wish to obtain further information about this session may contact Ms. Alisha Lingenfelter, EPA Washington Center Intern, EPA Science Advisory Board Staff Office by e-mail at Lingenfelter.Alisha@epa.gov or by telephone at (202) 343-9986.

SUPPLEMENTARY INFORMATION: Background: This public session is being held by the EPA SAB Staff Office as part of its efforts to continuously improve public outreach. The purpose of this session is to obtain feedback on the redesign of the SAB's public access Web site (http://www.epa.gov/sab).

The SAB Staff Office is seeking public views regarding the clarity, navigability, and usefulness of the site. The SAB Staff Office is specifically requesting participants' views on the most valuable features and suggestions for features or functions to add or change. This redesign effort builds on input received at a previous public session held September 26, 2002 [67 FR 56831-56832]. A summary of that session is available on the SAB Web site at http://www.epa.gov/sab/02minutes/pubsession092602m.pdf.

Registration for the July 26, 2006 Public Session: Persons wishing to register should contact Ms. Lingenfelter, contact information provided above.

Availability of Meeting Materials: Updated website materials to be viewed at the public session are available upon request and may be obtained from Ms. Lingenfelter at the contact information provided above.

Procedures for Providing Public Input: Members of the public may submit relevant written or oral information for the SAB Staff Office to consider. Oral Statements: In general, individuals or groups requesting an oral presentation at this public meeting will be limited to five minutes per speaker with no more than a total of thirty minutes for all speakers. Interested parties should contact Ms. Lingenfelter, contact information provided above, in writing via e-mail seven days before the meeting in order to be placed on the public speaker list. Written Statements: Written statements should be received in the SAB Staff Office at least seven days before the meeting so that the information may be made available to the SAB Staff Office for its consideration. Written statements should be supplied to Ms. Lingenfelter in the following formats: one hard copy with original signature, and one electronic copy via e-mail (acceptable file format: Adobe Acrobat, WordPerfect, Word, or Rich Text files (in IBM-PC/Windows 98/2000/XP format).

Meeting Accommodations: For information on access or services for individuals with disabilities, please contact Ms. Lingenfelter at the contact information provided above. To request accommodation of a disability, please contact Ms. Lingenfelter, preferably at least ten days prior to the meeting, to give EPA as much time as possible to process your request.

Dated: June 15, 2006.
Richard Albores,
Deputy Director for Management, EPA Science Advisory Board Staff Office.

[FR Doc. E6-9749 Filed 6-20-06; 8:45 am]

BILLING CODE 6560-50-P